DEPARTMENT OF HEALTH AND HUMAN SERVICES

National Institutes of Health

National Cancer Institute; Amended Notice of Meeting

Notice is hereby given of a change in the meeting of the Frederick National Laboratory Advisory Committee to the National Cancer Institute, February 3, 2015, 09:00 a.m. to February 4, 2015, 02:00 p.m., National Institutes of Health, Building 31, 31 Center Drive, Bethesda, MD, 20892 which was published in the Federal Register on December 30, 2014, 79 FR 78457.

The meeting notice is amended to change the date and time of the meeting to February 3, 2015 from 08:30 a.m. to 05:00 p.m. The meeting is open to the public.

Dated: January 13, 2015.
Melanie J. Gray,
Program Analyst, Office of Federal Advisory Committee Policy.

[FR Doc. 2015-00655 Filed 1-16-15; 8:45 am]

BILLING CODE 4140-01-P